DEPARTMENT OF DEFENSE

Department of the Army

[Docket ID: USA-2024-HQ-0011]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Exchange Customer Satisfaction Surveys; OMB Control Number 0702-0130.

Type of Request: Revision.

Number of Respondents: 23,600.

Responses per Respondent: 1.

Annual Responses: 23,600.

Average Burden per Response: 2 minutes.

Annual Burden Hours: 787.

Needs and Uses: The information collection requirement is necessary to provide the Exchange with holistic views of customers' shopping experiences. These surveys aid the Exchange's marketing directorate to address the effectiveness of providing goods and services and the quality of the Exchange mobile app and online shopping functionality, design, and use to meet with the patron's wants and desires. Respondents are authorized customers of the Army and Air Force Exchange Service, who voluntarily provide opinions or comments regarding their recent shopping experience at an Exchange facility or use of the Exchange on-line or mobile app. The survey provides valuable data used to enhance the customer's experience. If the Exchange does not receive data through these surveys, the Exchange's efforts to improve the customer shopping experience would not be as effective, efficient, or useful. Customer information is vital to the efficient and effective maintenance and improvement of the Exchange operations. The survey does not collect PII data.

Affected Public: Individuals or households.

Frequency: On occasion.

Respondent's Obligation: Voluntary.

DOD Clearance Officer: Mr. Reginald Lucas.

Dated: January 3, 2025.
Aaron T. Siegel,
Alternate OSD Federal Register Liaison Officer, Department of Defense.

[FR Doc. 2025-00278 Filed 1-8-25; 8:45 am]

BILLING CODE 6001-FR-P